NATIONAL AERONAUTICS AND SPACE ADMINISTRATION

[Notice (04-059)]

Notice of Prospective Patent License

AGENCY: National Aeronautics and Space Administration.

ACTION: Notice of prospective patent license.

SUMMARY: NASA hereby gives notice that Rycom Instruments, Inc., of Raytown, MO, has applied for a partially exclusive license to practice the inventions described and claimed in U.S. Patent No. 6,501,414 identified as NASA Case No. MSC-22839-1, and entitled, “Method for Locating a Concealed Object” and U.S. Patent No. 6,559,645 identified in NASA Case No. MSC-23307-1, and entitled, “Detection of Subterranean Metal Objects Using Differential Spectral Processing.” The patent is assigned to the United States of America as represented by the Administrator of the National Aeronautics and Space Administration. Written objections to the prospective grant of a license should be sent to the Johnson Space Center.

DATES: Responses to this notice must be received by May 17, 2004.

FOR FURTHER INFORMATION CONTACT: Theodore Ro, Patent Attorney, NASA Johnson Space Center, Mail Stop HA, Houston, TX 77058-8452; telephone (281) 244-7148.

Dated: April 23, 2004.
Robert M. Stephens,
Deputy General Counsel.

[FR Doc. 04-9851 Filed 4-29-04; 8:45 am]

BILLING CODE 7510-01-P